FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 1, 2011.

A. Federal Reserve Bank of Minneapolis (Jacqueline G. King, Community Affairs Officer) 90 Hennepin Avenue, Minneapolis, Minnesota 55480-0291:

1. Brian P. Short, St. Paul, Minnesota; Carolyn P. Short, Flourtown, Pennsylvania; and Marianne D. Short, St. Paul, Minnesota; individually and as trustees of fourteen Short family trusts, to retain 25 percent or more of the voting shares and thereby control of 215 Holding Company, Minneapolis, Minnesota. Kevin J. Short, Mahtomedi, Minnesota; Elizabeth J. Short, University Heights, Ohio; Colleen V. Short, Edina, Minnesota; and the trustees (Marion D. Short, Edina, Minnesota; Brian P. Short; Carolyn P. Short; and Marianne D. Short) on behalf of one or more of seventeen Short family trusts to join the Short Family Group, which controls 25 percent or more of the voting shares of 215 Holding Company, and thereby indirectly retain control of First Farmers & Merchants National Bank, Luverne, Minnesota; First Farmers & Merchants National Bank, Fairmont, Minnesota; First Farmers & Merchants State Bank, Brownsdale, Minnesota; First Farmers & Merchants State Bank, Grand Meadow, Minnesota; First Farmers & Merchants National Bank, Le Sueur, Minnesota; and White Rock Bank, Cannon Falls, Minnesota.

Board of Governors of the Federal Reserve System, May 12, 2011.
Robert deV. Frierson,
Deputy Secretary of the Board.

[FR Doc. 2011-12051 Filed 5-16-11; 8:45 am]

BILLING CODE 6210-01-P